DEPARTMENT OF THE INTERIOR

Bureau of Land Management

[WO-250-01-1220-PA]

Notice of Availability and Comment Period for the Public Review of the Draft, BLM National Off-Highway Vehicle (OHV) Management Strategy

AGENCY: Bureau of Land Management (BLM), Interior.

ACTION: Notice.

SUMMARY: The BLM is developing a Strategy to improve management of vehicle access on the public lands. In response to the first public comment period, BLM has developed a draft strategy document. A public review copy will be available by December 4, 2000 at BLM's website http://www.blm.gov. All members of the public who submitted comments, or signed in at a “listening meeting,” and provided a legible address, will receive a copy of the draft Strategy. Copies will also be available at all BLM offices.

DATES: The draft strategy was released on December 4, 2000 via the internet. Public comments should be submitted to BLM's Washington Office by close of business, January 3, 2001.

ADDRESSES: Return comments in writing to: OHV Comment Manager, Bureau of Land Management, Room 204 LS, 1849 C Street NW, Washington D.C. 20236; via the Internet by clicking on the OHV Strategy Link on http://www.blm.gov; or via e-mail at: ohv_comment_manager@blm.gov.

FOR FURTHER INFORMATION CONTACT: Jim Keeler at (202) 452-7771, Rodger Schmitt at (202) 452-7738, or Bob Ratcliffe at (202) 452-5040. Persons who use a telecommunications device for the deaf (TDD) may call the Federal Information Relay Service (FIRS) at 1-800-877-8339 24 hours a day, 7 days a week.

SUPPLEMENTARY INFORMATION:

I. Public Comment Procedures

II. Background

I. Public Comment Procedures

If you wish to comment, you may submit comments by any one of several methods:

• You may mail comments to: OHV Comment Manager, Bureau of Land Management, Room 204 LS, 1849 C Street NW, Washington D.C. 20240;

• Comments may be delivered to Room 401, 1620 L Street, NW, Washington, DC, 20236;

• A self-addressed mailer is available in printed copies, being sent to all members of the public who submitted comments during the initial comment period, and additional copies of the mailer are available at all BLM offices:

• You may comment via the Internet by following the Links from the BLM Homepage (http://www.blm.gov) or by sending comments to ohv_comment_manager@blm.gov. Please submit Internet comments as an ASCII file avoiding the use of special characters and any form of encryption. Please include “Attn.: OHV Comment Manager, and your name and return address in your Internet message.”

II. Background

Proper management of America's Public lands is vital for the natural ecosystems that they support and for the activities and resources they provide. The use of off-highway vehicles (OHVs) on BLM-administered public lands has increased substantially in recent years, and there has been an increasing concern about the impact of all types of recreational activities, including OHV use, on the 264 million acres of public land resources. The management challenges posed by OHV use in the fast-growing West have become very apparent, especially since the BLM's land-use plans, budgets, and staffing levels have not kept pace with OHV technology and popularity. These factors, along with litigation over OHV management issues, have created the need for a National OHV Management Strategy.

In August 2000, the BLM asked the public for ideas and proposed solutions for improving management of the OHV program. We are again requesting your participation to review this document and give us substantive comments. Because of the immense interest the public has shown in the OHV management on BLM-administered public lands, we are requesting that your comments specifically relate to this document. All comments will be fully considered and evaluated in making any necessary changes in the development of the final National Off-Highway Management Strategy.

Comments, including names and street addresses of respondents will be available for public review at the Bureau of Land Management, Equity Building, Room 204, 1620 L Street NW, Washington, DC from 8:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Dated: December 4, 2000.
Henri Bisson,
Assistant Director Renewal Resources and Planning.

[FR Doc. 00-31283 Filed 12-7-00; 8:45 am]

BILLING CODE 4310-84-M